DEPARTMENT OF COMMERCE

National Oceanic and Atmospheric Administration

[I.D. 021804A]

Endangered Species; Permit File No. 1260

AGENCY: National Marine Fisheries Service (NMFS), National Oceanic and Atmospheric Administration (NOAA), Commerce.

ACTION: Receipt of application for modification.

SUMMARY: Notice is hereby given that the NMFS, Southeast Region, 9721 Executive Center Drive, North, St. Petersburg, Florida 33702-2449, has requested a modification to scientific research Permit No. 1260.

DATES: Written comments or requests for a public hearing must be received on or before March 31, 2004.

ADDRESSES: The modification request and related documents are available for review upon written request or by appointment in the following offices:

Permits, Conservation and Education Division, Office of Protected Resources, NMFS, 1315 East-West Highway, Room 13705, Silver Spring, MD 20910; phone (301)713-2289; fax (301)713-0376; and

Southeast Region, NMFS, 9721 Executive Center Drive North, St. Petersburg, FL 33702-2432; phone (727)570-5301; fax (727)570-5320.

Written comments or requests for a public hearing must be submitted to the Chief, Permits, Conservation and Education Division, F/PR1, Office of Protected Resources, NMFS, 1315 East-West Highway, Room 13705, Silver Spring, MD 20910. Those individuals requesting a hearing should set forth the specific reasons why a hearing on this particular modification request would be appropriate.

Comments may be submitted by facsimile to (301)713-0376, provided the facsimile is confirmed by hard copy submitted by mail and postmarked no later than the closing date of the comment period. They may also be submitted by e-mail. The mailbox address for providing e-mail comments is NMFS.Pr1Comments@noaa.gov. Include in the subject line of the e-mail comment the following document identifier: File No. 1260 Modification.

FOR FURTHER INFORMATION CONTACT: Patrick Opay, (301)713-1401 or Ruth Johnson, (301)713-2289.

SUPPLEMENTARY INFORMATION: The subject modification request to Permit No. 1260, issued on June 29, 2001 (66 FR 34621) is requested under the authority of the Endangered Species Act of 1973, as amended (16 U.S.C. 1531 et seq.) and the regulations governing the taking, importing, and exporting of endangered and threatened species (50 CFR 222-226).

Permit No. 1260 authorizes the permit holder to take loggerhead (Caretta caretta), leatherback (Dermochelys coriacea), Kemp's ridley (Lepidochelys kempii), hawksbill (Eretmochelys imbricata), green (Chelonia mydas) and olive ridley (Lepidochelys olivacea) sea turtles for scientific research. The permit holder requests authorization to increase the number of sea turtles that can be sampled after they are incidentally captured during separately authorized trawl, bottom longline and pelagic longline resource assessment cruises. The permit holder proposes to take an additional 14 loggerhead and six Kemp's ridley sea turtles and also requests authorization to take nine leatherback, six green and six hawksbill sea turtles during the cruises. The applicant proposes to handle, flipper tag, measure and release all turtles associated with these cruises. None of the activities authorized under this modification are expected to result in mortality. The research will be conducted in waters of the Atlantic Ocean and Gulf of Mexico during the remainder of the permit which expires June 30, 2006.

Dated: February 20, 2004.
Carrie W. Hubard,
Acting Chief, Permits, Conservation and Education Division, Office of Protected Resources, National Marine Fisheries Service.

[FR Doc. 04-4515 Filed 2-27-04; 8:45 am]

BILLING CODE 3510-22-S